FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

AAA Cargo, Inc. dba AAA Cargo Express Inc. (OFF), 14536 Roscoe Blvd., Suite 99 & 101, Panorama City, CA 91402. Officers: Jake J. Son, President, (Qualifying Individual), Belen Mercano, Financial Officer, Application Type: New OFF License.

A & M Ocean Machinery, Inc. (OFF), 9725 Fontainebleau Blvd., #103, Miami, FL 33172. Officers: Alexandra Parra, Vice President/Secretary, (Qualifying Individual), Daniel Gelpi, President, Application Type: New OFF License.

Canei Group Corporation (NVO & OFF), 1602 Adams Street, Hollywood, FL 33020. Officers: Graziella M. Lobato, Director, (Qualifying Individual), Daniel D. Ferraz, Director, Application Type: New NVO & OFF License.

Cargocare Logistics USA Inc. (NVO), 4501 Baldwin Avenue, El Monte, CA 91731. Officers: Lam (Sue) S. Lao, Director/Secretary/Treasurer/CFO, (Qualifying Individual), Joy V. Pareckattil, President/Director, Application Type: New NVO License.

CJC Logistics Limited Liability Company dba CJC Container Line (NVO & OFF), 186 Alps Road, Wayne, NJ 07470. Officers: Oliver Rosca, President, (Qualifying Individual), Maria L. Rosca, CFO, Application Type: Trade Name Change.

Dandino, Inc. dba Danielli & Winston (NVO & OFF), 626 E. 62nd Street, Los Angeles, CA 90001. Officers: Carlos Gonzales, Vice President, (Qualifying Individual), Yaniv Daniel, President, Application Type: New NVO & OFF License.

Ever Best Logistics USA Inc. (OFF), 135-18 37th Avenue, Flushing, NY 11354. Officers: QiJie Sun, Operation Officer, (Qualifying Individual), Andy Wang, President/Secretary/Treasurer, Application Type: New OFF License.

General Noli USA Inc. dba General Freight (NVO & OFF), 148-08 Guy R. Brewer Blvd., 2nd Floor, Jamaica, NY 11434. Officers: Wei Hu, Vice President, (Qualifying Individual), Gianluca Pirrotta, President, Application Type: QI Change.

GRIP Inc. (OFF), 2328 Throckmorton Street, Dallas, TX 75219. Officers: Ryan M. Keintz, President, (Qualifying Individual), David Braginsky, Board Member/Technology Lead, Application Type: New OFF License.

Heat Logistics Inc. (NVO & OFF), 428 Promos Avenue, Folcroft, PA 19032. Officers: Kenneth Cloud, Vice President, (Qualifying Individual), Michael Gerace, President, Application Type: New NVO & OFF License.

Hermes International Movers Corp. (NVO & OFF), 2383 31st Street, Astoria, NY 11105. Officers: Ioannis Ladis, Vice President, (Qualifying Individual), Antonia Ladis, Secretary, Application Type: QI Change.

International Shipping Lines Incorporated (NVO), 2 Thorncliffe Park Drive, Unit #28, Toronto, ON Canada. Officer: Kamran Shaikh, Operations Manager/Director, Application Type: New NVO License.

Leschaco, Inc. (NVO & OFF), One Evertrust Plaza, Suite 304, Jersey City, NJ 07302. Officers: Michael G. Lovis, President/CEO, (Qualifying Individual), Joerg C. Conrad, Director, Application Type: QI Change.

RDD Freight International (Atlanta), Inc. (NVO & OFF), 510 Plaza Drive, Suite 1880, Atlanta, GA 30349. Officers: Bill Lou, President, (Qualifying Individual), Yiwen Hu, Treasurer, Application Type: New NVO & OFF License.

Summit Logistics International, Inc. (NVO & OFF), 800 Federal Blvd., Carteret, NJ 07008. Officers: Myles O'Brien, CEO, (Qualifying Individual), Robert Agresti, CFO/Treasurer, Application Type: Add OFF Service.

Dated: October 29, 2010.
Karen V. Gregory,
Secretary.

[FR Doc. 2010-27837 Filed 11-3-10; 8:45 am]

BILLING CODE 6730-01-P